DEPARTMENT OF ENERGY

Federal Energy Regulatory Commission

[Docket No. ER00-3316-002, et al.]

American Transmission Company LLC, et al.; Electric Rate and Corporate Regulation Filings

February 20, 2001.

Take notice that the following filings have been made with the Commission:

1. American Transmission Company LLC

[Docket No. ER00-3316-002]

Take notice that on February 15, 2001, American Transmission Company (ATCLLC), tendered for filing revisions to its Open Access Transmission Tariff in compliance with the Commission's December 14, 2000 Order in American Transmission Company LLC, 93 FERC ¶ 61,267 (2000).

Comment date: March 8, 2001, in accordance with Standard Paragraph E at the end of this notice.

2. Xcel Energy Services, Inc.

[Docket No. ER01-205-002]

Take notice that on February 14, 2001, Xcel Energy Services, Inc., made its Filing in Compliance with the Commission's Order of January 30, 2001, in the above referenced dockets.

Comment date: March 7, 2001, in accordance with Standard Paragraph E at the end of this notice.

3. Entergy Services, Inc.

[Docket No. ER01-599-001]

Take notice that on February 15, 2001 Entergy Services, Inc. (Entergy Services), on behalf of Entergy Arkansas, Inc., Entergy Gulf States, Inc., Entergy Louisiana, Inc., Entergy Mississippi, Inc., and Entergy New Orleans, Inc. (collectively, the Entergy Operating Companies), tendered for filing its compliance filing in the above-captioned docket.

Comment date: March 8, 2001, in accordance with Standard Paragraph E at the end of this notice.

4. Wisconsin Electric Power Company

[Docket No. ER01-850-001]

Take notice that on February 14, 2001, Wisconsin Electric Power Company (Wisconsin Electric), tendered for filing a revised Wholesale Distribution Agreement (WDA) between Wisconsin Electric and Wisconsin Public Power, Inc., to substitute for the WDA originally filed on December 28, 2000 in the above-captioned docket. The revised WDA contains pagination in compliance with Order No. 614, FERC Stats. & Regs. ¶ 31,096 (2000). Otherwise, the revised WDA contains no substantive changes from the WDA filed on December 28, 2000.

Comment date: March 7, 2001, in accordance with Standard Paragraph E at the end of this notice.

5. California Independent System Operator Corporation

[Docket No. ER01-967-001]

Take notice that on February 15, 2001, the California Independent System Operator Corporation (ISO), tendered for filing a revised Utility Distribution Company Operating Agreement (UDC Operating Agreement) between the ISO and the City of Pasadena, California (Pasadena). The ISO made this filing pursuant to the Commission's Order No. 614 and to direction provided by Commission staff. The ISO states that the revised UDC Operating Agreement synthesizes the terms of the UDC Operating Agreement between the ISO and Pasadena, which the ISO filed on July 16, 1999 in Docket No. ER99-3619-000, and the terms of Amendment No. 1 to the UDC Operating Agreement, which the ISO filed on January 16, 2001 in Docket No. ER01-967-000, but does not include any new proposed changes. The ISO further states that the instant filing is intended to amend and replace the ISO's January 16, 2001 filing.

The ISO states that this filing has been served on all parties listed on the official service lists in Docket Nos. ER99-3619-000 and ER01-967-000.

Comment date: March 8, 2001, in accordance with Standard Paragraph E at the end of this notice.

6. PSI Energy, Inc.

[Docket No. ER00-3608-001]

Take notice that on October 23, 2000, PSI Energy, Inc., tendered for a filing rate schedule designation for the Transmission and Local Facilities Agreement (T&LF) between PSI and Wabash Valley Power Association, Inc., and between PSI and Indiana Municipal Power Agency (IMPA).

Comment date: March 2, 2001, in accordance with Standard Paragraph E at the end of this notice.

7. Wisconsin Electric Power Company

[Docket No. ER01-849-001]

Take notice that on February 14, 2001, Wisconsin Electric Power Company (Wisconsin Electric), tendered for filing a fully-executed Wholesale Distribution Agreement (WDA) between Wisconsin Electric and the City of Oconto Falls, Wisconsin. The fully-executed WDA substitutes for a partially-executed WDA filed by Wisconsin Electric on December 28, 2000. The fully-executed WDA also contains pagination in compliance with Order No. 614, FERC Stats. & Regs. ¶ 31,096 (2000). Otherwise, the fully-executed WDA contains no substantive changes from the partially-executed WDA filed on December 28, 2000.

Comment date: March 7, 2001, in accordance with Standard Paragraph E at the end of this notice.

8. Cleco Power LLC

[Docket No. ER01-1099-001]

Take notice that on February 15, 2001, Cleco Power LLC, tendered for filing an amendment to the Notice of Succession it filed on January 30, 2001 in the above-referenced docket.

Comment date: March 8, 2001, in accordance with Standard Paragraph E at the end of this notice.

9. Connexus Energy

[Docket No. ER01-1234-000]

Take notice that on February 12, 2001, Connexus Energy tendered for filing Revised Electric Rate Schedule FERC No. 1. Connexus Energy states that the Revised Electric Rate Schedule effects changes to Connexus Energy's contract with Elk River Municipal Utilities.

Connexus Energy requests waiver of the Commission's notice requirement to allow a January 1, 2001 effective date.

Comment date: March 7, 2001, in accordance with Standard Paragraph E at the end of this notice.

10. Avista Corporation

[Docket No. ER01-1235-000]

Take notice that on February 13, 2001, Avista Corporation, tendered for filing with the Federal Energy Regulatory Commission pursuant to section 35.12 of the Commissions, 18 CFR Part 35.12, an executed Mutual Netting Agreement with MIECO, Inc., effective February 2, 2001 under Rate Schedule FERC No. 285.

Notice of the filing has been served upon Peter D'Anna.

Comment date: March 7, 2001, in accordance with Standard Paragraph E at the end of this notice.

11. Florida Power & Light Company

[Docket No. ER01-1236-000]

Take notice that on February 14, 2001, Florida Power & Light Company (FPL), tendered for filing a Service Agreement with NRG Power Marketing Inc., for service pursuant to FPL's Market Based Rates Tariff.

FPL requests that the Service Agreement be made effective on January 26, 2001.

Comment date: March 7, 2001, in accordance with Standard Paragraph E at the end of this notice.

12. Public Service Electric and Gas Company

[Docket Nos. ER01-763-001 and ER01-768-001]

Take notice that on February 13, 2001, Public Service Electric and Gas Company (PSEG), tendered for filing amendments to its Interconnection Agreements filed with the Commission on December 22, 2000, in the above referenced dockets.

Comment date: March 6, 2001, in accordance with Standard Paragraph E at the end of this notice.

13. Entergy Services, Inc.

[Docket No. ER01-1238-000]

Take notice that on February 14, 2001, Entergy Services, Inc., on behalf of Entergy Arkansas, Inc. (Entergy Arkansas), tendered for filing a Long-Term Market Rate Sales Agreement between Entergy Arkansas and North Arkansas Electric Cooperative, Incorporated for the sale of power under Entergy Services' Rate Schedule SP.

Comment date: March 7, 2001, in accordance with Standard Paragraph E at the end of this notice.

14. Wisconsin Electric Power Company LLC

[Docket No. ER01-1239-000]

Take notice that on February 14, 2001, Wisconsin Electric Power Company (Wisconsin Electric), tendered for filing a fully executed Control Area Operations Coordination Agreement, designated as Rate Schedule 100, between Wisconsin Electric and Upper Peninsula Power Company.

Comment date: March 7, 2001, in accordance with Standard Paragraph E at the end of this notice.

15. PJM Interconnection, L.L.C.

[Docket No. ER01-1240-000]

Take notice that on February 14, 2001, PJM Interconnection, L.L.C. (PJM), tendered for a Notice of Termination of the Umbrella Service Agreement for Network Integration Service between PJM and Utility.com, Inc. (PJM Interconnection, L.L.C. Third Revised Rate Schedule FERC No. 1 Service Agreement No. 409).

PJM requested a waiver to permit an effective date of February 7, 2001 for the termination of the agreement.

Copies of this filing were served upon Utility.com, Inc., affected Electric Distribution Companies, and all state utility regulatory commissions in the PJM control area.

Comment date: March 7, 2001, in accordance with Standard Paragraph E at the end of this notice.

16. Wisconsin Electric Power Company LLC

[Docket No. ER01-1237-000]

Take notice that on February 14, 2001, Wisconsin Electric Power Company (Wisconsin Electric), tendered for filing a fully executed Control Area Operations Coordination Agreement, designated as Rate Schedule Number 99, between Wisconsin Electric and Wisconsin Public Service Corporation.

Comment date: March 7, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-4813 Filed 2-27-01; 8:45 am]

BILLING CODE 6717-01-P